DEPARTMENT OF LABOR

Mine Safety and Health Administration

Petitions for Modification

The following parties have filed petitions to modify the application of existing safety standards under section 101(c) of the Federal Mine Safety and Health Act of 1977.

1. Consolidation Coal Company

[Docket No. M-2002-045-C]

Consolidation Coal Company, Consol Plaza, 1800 Washington Road, Pittsburgh, Pennsylvania 15241-1421 has filed a petition to modify the application of 30 CFR 75.364(b)(2) (weekly examination) to its Blacksville No. 2 Mine (I.D. No. 46-01968) located in Monongalia County, West Virginia. The petitioner proposes to establish check point numbers B-CK-1, CK-2 and B-CK-3 to measure air quality and quantity at the inlet to the affected aircourse. The petitioner will also establish check point numbers B-CK-4, B-CK-5 and B-CK6 to measure air quality and quantity at the outlet from the affected aircourse. The petitioner states that due to deteriorating roof conditions, traveling the affected areas of the return aircourse would expose persons to hazardous conditions. The petitioner asserts that the check points and all approaches to the check points will be maintained in a safe condition and a certified person will test the methane and quantity of air at each check point on a weekly basis. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before July 10, 2002. Copies of these petitions are available for inspection at that address.

Dated at Arlington, Virginia this 31st day of May 2002.
Marvin W. Nichols, Jr.,
Director, Office of Standards, Regulations, and Variances.

[FR Doc. 02-14398 Filed 6-7-02; 8:45 am]

BILLING CODE 4510-43-P